DEPARTMENT OF COMMERCE

International Trade Administration

[A-570-051, C-570-052]

Certain Hardwood Plywood Products From the People's Republic of China: Affirmative Final Determination of Circumvention of the Antidumping and Countervailing Duty Orders

AGENCY: Enforcement and Compliance, International Trade Administration, Department of Commerce.

SUMMARY: The Department of Commerce (Commerce) determines that certain plywood products with face and back veneers of radiata and/or agathis pine that: (1) Have a Toxic Substances Control Act (TSCA) or California Air Resources Board (CARB) label certifying that it is compliant with TSCA/CARB requirements; and (2) are made with a resin, the majority of which is comprised of one or more of three product types (urea formaldehyde, polyvinyl acetate, and/or soy), exported from the People's Republic of China (China), are circumventing the antidumping duty (AD) and countervailing duty (CVD) orders on certain hardwood plywood products from China.

DATES: Effective Date: Applicable November 29, 2019.

FOR FURTHER INFORMATION CONTACT: Rachel Greenberg or Nicolas Mayora, AD/CVD Operations, Office V, Enforcement and Compliance, International Trade Administration, U.S. Department of Commerce, 1401 Constitution Avenue NW, Washington, DC 20230; telephone: (202) 482-0652 or (202) 482-3053, respectively.

SUPPLEMENTARY INFORMATION:

Background

Commerce published the Preliminary Determination on June 11, 2019.¹ A summary of the events that occurred since Commerce published the Preliminary Determination may be found in the Issues and Decision Memorandum.²

¹ See Certain Hardwood Plywood Products from the People's Republic of China: Preliminary Affirmative Determination of Circumvention of the Antidumping Duty and Countervailing Duty Orders, 84 FR 27081 (June 11, 2019) (Preliminary Determination).

² See Memorandum, “Issues and Decision Memorandum for the Final Determination of the Anti-Circumvention Inquiry: Certain Hardwood Plywood Products from the People's Republic of China,” dated concurrently with, and hereby adopted by this notice (Issues and Decision Memorandum).

Scope of the Anti-Circumvention Inquiry

This anti-circumvention inquiry covers certain plywood products with face and back veneers of radiata and/or agathis pine that: (1) Have a TSCA or CARB label certifying that it is compliant with TSCA/CARB requirements; and (2) are made with a resin, the majority of which is comprised of one or more of the following three product types: Urea formaldehyde, polyvinyl acetate, and/or soy exported from China. Such merchandise is referred to as “inquiry merchandise.” This ruling applies to all shipments of inquiry merchandise on or after the date of the initiation of this inquiry. Importers and exporters of plywood from China with both outer veneers made of a softwood species of wood (softwood plywood products), must certify that the softwood plywood products do not meet all three of the following criteria: (1) Have both outer veneers of radiata and/or agathis pine; (2) are made with a resin, the majority of which is comprised of urea formaldehyde, polyvinyl acetate, and/or soy; and (3) have a TSCA or CARB label certifying that they are compliant with TSCA/CARB requirements, as provided in the certifications in the appendices to this Federal Register notice.

Analysis of Comments Received

All issues raised in the case and rebuttal briefs are addressed in the Issues and Decision Memorandum. A list of the issues raised, and to which we respond in the Issues and Decision Memorandum, is attached in Appendix I to this notice. The Issues and Decision memorandum is a public document and is on file electronically via Enforcement and Compliance's Antidumping and Countervailing Duty Centralized Electronic Service System (ACCESS). ACCESS is available to registered users at http://access.trade.gov and is available to all parties in the Central Records Unit, Room B8024 of the main Department of Commerce building. In addition, a complete version of the Issues and Decision Memorandum can be accessed directly at http://enforcement.trade.gov/frn/. The signed Issues and Decision Memorandum and the electronic version of the Issues and Decision Memorandum are identical in content.

Final Affirmative Determination of Circumvention

As detailed in the Issues and Decision Memorandum, we determine that the inquiry merchandise exported from China is circumventing the Orders.³ As such, we determine that it is appropriate to include this merchandise within the Orders and to continue to instruct U.S. Customs and Border Protection (CBP) to suspend any entries of inquiry merchandise from China that entered the United States on or after the date of the initiation of this inquiry.

³ See Certain Hardwood Plywood from the People's Republic of China: Amended Final Determination of Sales at Less Than Fair Value, and Antidumping Order, 83 FR 504 (January 4, 2018) and Certain Hardwood Plywood from the People's Republic of China: Countervailing Duty Order, 83 FR 513 (January 4, 2018) (collectively, Orders).

Suspension of Liquidation

In accordance with 19 CFR 351.225(1)(3), Commerce will direct U.S. Customs and Border Protection (CBP) to continue to suspend liquidation of inquiry merchandise (regardless of producer, exporter, or importer) entered or withdrawn from warehouse for consumption on or after September 18, 2018, the date of publication of the initiation of this inquiry, until appropriate liquidation instructions are issued.⁴ Commerce will also instruct CBP to continue to require a cash deposit of estimated duties at the rate applicable to the exporter on all unliquidated entries of inquiry merchandise entered, or withdrawn from warehouse, for consumption on or after September 18, 2018.

⁴ See Certain Hardwood Plywood Products from the People's Republic of China: Initiation of Anti-Circumvention Inquiry on the Antidumping Duty and Countervailing Orders, 83 FR 47883 (September 21, 2018).

Notification to Interested Parties

This affirmative anti-circumvention determination is published in accordance with section 781(d) of the Act and 19 CFR 351.225.

Dated: November 22, 2019.
Jeffrey I. Kessler,
Assistant Secretary for Enforcement and Compliance.

Appendix I

List of Topics Discussed in the Issues and Decision Memorandum

I. Summary

II. Background

III. Scope of the Anti-Circumvention Inquiry

IV. Discussion of the Issues

V. Recommendation

Appendix II

If an importer imports plywood from China with outer veneers both made of softwood plywood, and claims that its softwood plywood products produced in China do not meet all three of the following criteria: (1) Have both outer veneers of radiata and/or agathis pine; (2) are made with a resin, the majority of which is comprised of urea formaldehyde, polyvinyl acetate, and/or soy; and (3) have a Toxic Substances Control Act (TSCA) or California Air Resources Board (CARB) label certifying that they are compliant with TSCA/CARB requirements, then the importer is required to complete and maintain the importer certification attached hereto as Appendix III.

The importer and exporter are required to maintain the exporter certification attached hereto as Appendix IV. The importer certification must be completed, signed, and dated at the time of the entry of the plywood product. The exporter certification must be completed, signed, and dated at the time of shipment of the relevant entries. The importer and Chinese exporter are also required to maintain sufficient documentation supporting their certifications. The importer will not be required to submit the certifications or supporting documentation to CBP as part of the entry process. However, the importer and the exporter will be required to present the certifications and supporting documentation to the Department of Commerce (Commerce) and/or U.S. Customs and Border Protection (CBP), as applicable, upon request by the respective agency. Additionally, the claims made in the certifications and any supporting documentation are subject to verification by Commerce and/or CBP. The importer and exporter are required to maintain the certifications and supporting documentation for the later of (1) a period of five years from the date of entry or (2) a period of three years after the conclusion of any litigation in United States courts regarding such entries. If it is determined that the certification and/or documentation requirements in a certification have not been met, Commerce intends to instruct CBP to suspend, under the China Plywood orders (A-570-051, C-570-052), all unliquidated entries for which these requirements were not met and require the importer to post applicable antidumping duty (AD) and countervailing duty (CVD) cash deposits equal to the rates as determined by Commerce. Entries suspended under A-570-051 and C-570-052 will be liquidated pursuant to applicable administrative reviews of the China orders or through the automatic liquidation process.

Appendix III

IMPORTER CERTIFICATION

I hereby certify that:

• My name is {INSERT COMPANY OFFICIAL'S NAME} and I am an official of {IMPORTING COMPANY};

• This certification pertains to {INSERT ENTRY NUMBER(S), ENTRY LINE NUMBER(S), AND PRODUCT CODE(S) REFERENCED ON ENTRY SUMMARY};

• I have direct personal knowledge of the facts regarding the importation into the Customs territory of the United States of the plywood with both outer veneers made of a softwood species of wood (softwood plywood products) produced in the People's Republic of China (China) that entered under entry number(s) {INSERT ENTRY NUMBER(S)} and are covered by this certification. “Direct personal knowledge” for purposes of this certification refers to facts in records maintained by the importing company in the normal course of its business. The importer should have “direct personal knowledge” of the importation of the product (e.g., the name of the exporter) in its records;

• I have personal knowledge of the facts regarding the production of the imported softwood plywood products covered by this certification. “Personal knowledge” for purposes of this certification includes facts obtained from another party (e.g., correspondence received by the importer (or exporter) from the producer regarding the materials used to produce the imported softwood plywood products);

• The softwood plywood products produced in China that are covered by this certification are not subject to the orders on certain hardwood plywood products from China because they do not meet all three of the following criteria: (1) Have both outer veneers of radiata and/or agathis pine; (2) are made with a resin, the majority of which is comprised of urea formaldehyde, polyvinyl acetate, and/or soy;¹ and (3) have a Toxic Substances Control Act (TSCA) or California Air Resources Board (CARB) label certifying that they are compliant with TSCA/CARB requirements;

¹ Documentation should demonstrate that your resin is not majority urea formaldehyde, polyvinyl acetate, and/or soy, for example, by establishing the chemical composition and relative percentage of the resin's ingredients.

• I understand that {INSERT IMPORTING COMPANY NAME} is required to maintain a copy of this certification and sufficient documentation supporting this certification (i.e., documents maintained in the normal course of business, or documents obtained by the certifying party, for example, mill certificates, productions records, invoices, etc.) for the later of (1) a period of five years from the date of entry or (2) a period of three years after the conclusion of any litigation in the United States courts regarding such entries;

• I understand that {INSERT IMPORTING COMPANY NAME}is required to provide this certification and supporting records, upon request, to U.S. Customs and Border Protection (CBP) and/or the Department of Commerce (Commerce);

• I understand that {INSERT IMPORTING COMPANY NAME} is required to maintain a copy of the Exporter's Certification for the later of (1) a period of five years from the date of entry or (2) a period of three years after the conclusion of any litigation in United States courts regarding such entries;

• I understand that {INSERT IMPORTING COMPANY NAME} is required to maintain and provide a copy of the Exporter's Certification and supporting records, upon request, to CBP and/or Commerce;

• I understand that the claims made herein, and the substantiating documentation, are subject to verification by CBP and/or Commerce;

• I understand that failure to maintain the required certification and/or failure to substantiate the claims made herein will result in:

○ Suspension of liquidation of all unliquidated entries (and entries for which liquidation has not become final) for which these requirements were not met, and

○ the requirement that the importer post applicable antidumping duty (AD) and/or countervailing duty (CVD) cash deposits (as appropriate) equal to the rates determined by Commerce;

• I understand that agents of the importer, such as brokers, are not permitted to make this certification;

• This certification was completed at the time of filing the entry summary for the relevant importation; and

• I am aware that U.S. law (including, but not limited to, 18 U.S.C. 1001) imposes criminal sanctions on individuals who knowingly and willfully make material false statements to the U.S. government.

Name of Company Official

Signature

Title

Date

Appendix IV

EXPORTER CERTIFICATION

I hereby certify that:

• My name is {INSERT COMPANY OFFICIAL'S NAME HERE} and I am an official of {INSERT NAME OF EXPORTING COMPANY};

• I have direct personal knowledge of the facts regarding the production and exportation of the plywood with both outer veneers made of a softwood species of wood (softwood plywood products) identified below;

• The softwood plywood products produced in China that are covered by this certification are not subject to the orders on certain hardwood plywood products from China because they do not meet all three of the following criteria: (1) have both outer veneers of radiata and/or agathis pine; (2) are made with a resin, the majority of which is comprised of urea formaldehyde, polyvinyl acetate, and/or soy;¹ and (3) have a Toxic Substances Control Act (TSCA) or California Air Resources Board (CARB) label certifying that they are compliant with TSCA/CARB requirements;

¹ Documentation should demonstrate that your resin is not majority urea formaldehyde, polyvinyl acetate, and/or soy, for example, by establishing the chemical composition and relative percentage of the resin's ingredients.

• I understand that {INSERT NAME OF EXPORTING COMPANY} is required to maintain a copy of this certification and sufficient documentation supporting this certification for the later of (1) a period of five years from the date of entry or (2) a period of three years after the conclusion of any litigation in the United States courts regarding such entries;

• I understand that {INSERT NAME OF EXPORTING COMPANY} must provide this Exporter Certification to the U.S. importer at the time of shipment;

• I understand that {INSERT NAME OF EXPORTING COMPANY} is required to provide a copy of this certification and supporting records, upon request, to U.S. Customs and Border Protection (CBP) and/or the Department of Commerce (Commerce);

• I understand that the claims made herein, and the substantiating documentation are subject to verification by CBP and/or Commerce;

• I understand that failure to maintain the required certification and/or failure to substantiate the claims made herein will result in:

○ Suspension of all unliquidated entries (and entries for which liquidation has not become final) for which these requirements were not met and

○ the requirement that the importer post applicable antidumping duty (AD) and countervailing duty (CVD) cash deposits equal to the rates as determined by Commerce;

• This certification was completed at or prior to the time of shipment; and

• I am aware that U.S. law (including, but not limited to, 18 U.S.C. 1001) imposes criminal sanctions on individuals who knowingly and willfully make material false statements to the U.S. government.

Name of Company Official

Signature

Title

Date

[FR Doc. 2019-25889 Filed 11-27-19; 8:45 am]

BILLING CODE 3510-DS-P